DEPARTMENT OF HEALTH AND HUMAN SERVICES

Centers for Disease Control and Prevention

[60Day-23-22DI; Docket No. CDC-2023-0036]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of Government information, invites the general public and other Federal agencies the opportunity to comment on a proposed information collection, as required by the Paperwork Reduction Act of 1995. This notice invites comment on a proposed information collection project titled Noise Exposures and Hearing Loss in the Oil and Gas Extraction Industry. This information collection is designed to evaluate oil and gas extraction workers' noise and chemical exposures and hearing.

DATES: CDC must receive written comments on or before July 11, 2023.

ADDRESSES: You may submit comments, identified by Docket No. CDC-2023-0036 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; phone: 404-639-7570; email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Noise Exposures and Hearing Loss in the Oil and Gas Extraction Industry—New—National Institute for Occupational Safety and Health (NIOSH), Centers for Disease Control and Prevention (CDC).

Background and Brief Description

Oil and gas extraction (OGE) workers play an important role in supporting the United States economy and help fulfill the energy needs of Americans and American businesses. OGE workers have significant risks for a variety of exposures at oil and gas well sites, and there has been no significant occupational noise exposure research in the United States onshore upstream OGE sector. This proposed project will characterize relationships between noise exposure, chemical exposures, hearing loss, and hearing loss prevention practices within the onshore OGE industry.

Primary data will be collected using three approaches. First, researchers will collect direct measurements of noise and ototoxic chemicals on job sites, including personal exposure assessments of OGE workers. Second, researchers will use a questionnaire to collect information on noise and chemical exposures, hearing loss, and associated factors among OGE workers. Third, audiometry tests performed by NIOSH will be offered to industry partners to further understand extent of hearing loss amongst OGE workers.

Data will be used to understand noise exposures, ototoxic chemical exposures, self-reported hearing loss, and hearing loss prevention practices in the OGE industry. Subsequently, the data and analysis will be used to create evidence-based interventions and recommendations, which will be communicated to the spectrum of OGE industry stakeholders.

CDC requests OMB approval for an estimated 65 annual burden hours. There is no cost to respondents other than their time to participate.

Estimated Annualized Burden Hours
Type of respondents | Form name | Number of respondents | Number of responses per respondent | Average burden per response (in hours) | Total burden (in hours)
Oil and gas workers | Noise and Hearing Questionnaire | 167 | 1 | 17/60 | 47
| Audiometry Testing | 33 | 1 | 30/60 | 17
| Exposure Monitoring Results Notification Form | 40 | 1 | 2/60 | 1
Total |  |  |  |  | 65

Jeffrey M. Zirger,
Lead, Information Collection Review Office, Office of Public Health Ethics and Regulations, Office of Science, Centers for Disease Control and Prevention.

[FR Doc. 2023-10188 Filed 5-11-23; 8:45 am]

BILLING CODE 4163-18-P